DEPARTMENT OF AGRICULTURE

Forest Service

RIN 0596-AC12

Grazing Permit Administration Handbook (FSH 2209.13), Chapters 10 (Term Grazing Permits) and 20 (Grazing Agreements)

AGENCY: Forest Service, USDA.

ACTION: Notice; correction.

SUMMARY: The Forest Service published on August 19, 2005 (70 FR 48663), a notice of issuance of an interim directive and proposed directives to Forest Service Handbook (FSH) 2209.13, chapter 10—Term Grazing permits and chapter 20—Grazing Agreements. The notice contained an incorrect World Wide Web/Internet address. In addition, language was mistakenly included in the proposed direction that incorrectly indicated restrictions of the base property and livestock ownership requirements.

FOR FURTHER INFORMATION CONTACT: Ralph Giffen, Rangeland Management Staff, USDA Forest Service, (202) 205-1455.

Correction: In the Federal Register issue of August 19, 2005, 70 FR 48663-48664, in the third column, correct the ADDRESSES caption to read:

ADDRESSES: Interim Directive no. 2209.13-2005-3 (Chapter 10); and Interim Directive no. 2209.13-2005-4 (Chapter 20) are available on the World Wide Web/Internet at http://www.fs.fed.us/im/directives. The proposed directives can be found on the Forest Service's Rangeland Management Web site at http://www.fs.fed.us/rangelands. Paper copies can be requested by writing to the USDA Forest Service, Attn: Director, Rangeland Management Staff, Mail Stop 1103, 1400 Independence Ave., SW., Washington, DC 20250-1153. Also send written comments by mail to that same address; by electronic mail to RgeID@fs.fed.us; or by facsimile to (202) 205-1096. If comments are sent by electronic means or by facsimile, the public is requested not to send duplicate comments via regular mail.

All comments, including names and addresses when provided, are placed in the record and available for public inspection and copying. The agency cannot confirm receipt of comments.

The public may inspect comments received on these proposed directives in the Rangeland Management Staff, 3rd Floor, South Wing, Yates Building, 14th and Independence Avenues, Southwest, Washington, DC, between the hours of 8:30 a.m. and 4 p.m. Those wishing to inspect comments are encouraged to call ahead to (202) 205-1460 to facilitate entry into the building

Dated: August 30, 2005.
Frederick R. Norbury,
Associate Deputy Chief.

[FR Doc. 05-17548 Filed 9-1-05; 8:45 am]

BILLING CODE 3410-11-P